DEPARTMENT OF COMMERCE

Census Bureau

Agency Information Collection Activities; Submission to the Office of Management and Budget (OMB) for Review and Approval; Comment Request; Current Population Survey, School Enrollment Supplement

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register (84 FR 13628) on April 5, 2019, during a 60-day comment period. This notice allows for an additional 30 days for public comments.

Agency: U.S. Census Bureau.

Title: Current Population Survey, School Enrollment Supplement.

OMB Control Number: 0607-0464.

Form Number(s): None.

Type of Request: Regular submission, Request for Non-Substantive Change to a Currently Approved Information Collection.

Number of Respondents: 54,000.

Average Hours per Response: 0.05.

Burden Hours: 2,700.

Needs and Uses: The Current Population Survey, School Enrollment Supplement provides information on the population 3 years old and older on school enrollment, junior or regular college attendance, and high school graduation. It has been fielded annually from October 2005 to October 2019. This request is to add seven questions to the School Enrollment Supplement in October 2020. The added questions will assist researchers to understand how the coronavirus (COVID-19) pandemic affected schooling at an individual child level, such as:

• How children received instruction in a distance-format, if at all;

• how much digital and internet access children had, if at all;

• how much live interaction children had with teachers, if at all; and

• how much time was spent on distance learning.

Affected Public: Individuals or households.

Frequency: Annually.

Respondent's Obligation: Voluntary.

Legal Authority: Title 13, United States Code, Sections 8(b), 141, and 182; and Title 29, United States Code, Section 2 authorize the Census Bureau to collect this information. The Education Sciences Reform Act of 2002 (ESRA, Title 20, United States Code, Section 9543) authorizes the National Center for Education Statistics to collect this information.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0464.

Sheleen Dumas,
Department PRA Clearance Officer, Office of the Chief Information Officer, Commerce Department.

[FR Doc. 2020-18034 Filed 8-17-20; 8:45 am]

BILLING CODE 3510-07-P